DEPARTMENT OF HEALTH AND HUMAN SERVICES

Centers for Disease Control and Prevention

[30Day-19-0853]

Agency Forms Undergoing Paperwork Reduction Act Review

In accordance with the Paperwork Reduction Act of 1995, the Centers for Disease Control and Prevention (CDC) has submitted the information collection request titled Asthma Information Reporting System (AIRS) to the Office of Management and Budget (OMB) for review and approval. CDC previously published a “Proposed Data Collection Submitted for Public Comment and Recommendations” notice on December 6, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Asthma Information and Reporting System (AIRS) (OMB Control No. 0920-0853, Expiration Date: 06/30/2019)—Revision—National Center for Environmental Health (NCEH), Centers for Disease Control and Prevention (CDC).

Background and Brief Description

In 1999, the CDC began its National Asthma Control Program (NACP), a public health approach to address the burden of asthma. The program supports the goals and objectives of “Healthy People 2020” for asthma and is based on the public health principles of surveillance, partnerships, interventions, and evaluation. The CDC requests a 12-month approval to revise the “Asthma Information Reporting System (AIRS)” (OMB Control No. 0920-0853, Expiration Date 6/30/2019). Specifically, CDC seeks to make the following changes:

• Increase the number of awardees from 23 to 25.

• Increase the requested burden hours from 82 to 89.

• Increase the number of optional performance measures (PMs) and decrease the number of required PMs, while still maintaining a total of 18 PMs.

• Update the instructions for the data collection instruments to reflect the optional status of 5 of the 18 PMs and to clarify instructions that were commonly misinterpreted.

• Update the Emergency Department Data and Hospital Discharge Data reporting forms to include example data submission templates for each awardee. Add a tab labeled “Technical Notes” within the Excel reporting form to collect clarifying information about the data from each awardee.

• Add examples of Emergency Department Data and Hospital Discharge Data reporting forms to provide clarity on how data should be reported within the forms.

• Update respondent costs to reflect current wage data from 2017.

The 12-month approval will allow CDC to continue to monitor states' program planning and delivery of public health activities and the programs' collaboration with health care systems for the remainder of the fifth and final year of cooperative agreement EH14-1404 (program period: September 2014—August 2019), and the third and final year of cooperative agreement EH16-1606 (program period: September 2016—August 2019).

The goal of this data collection is to provide NCEH with routine information about the activities and performance of the state and territorial awardees funded under the NACP through an annual reporting system. NACP requires awardees to report activities related to partnerships, infrastructure, evaluation and interventions to monitor the state programs' performance in reducing the burden of asthma. AIRS also includes two forms to collect aggregate ED and HD data from awardees.

AIRS was first approved by OMB in 2010 to collect data in a web-based system to monitor and guide participating state health departments. Since implementation in 2010, AIRS and the technical assistance provided by CDC staff have provided states with uniform data reporting methods and linkages to other states' asthma program information and resources. Thus, AIRS has saved state resources and staff time when asthma programs embark on asthma activities similar to those done elsewhere.

In the past three years, AIRS data were used to:

• Serve as a resource to NCEH when addressing congressional, departmental and institutional inquiries.

• Help the branch align its current interventions with CDC goals and allowed the monitoring of progress toward these goals.

• Allow the NACP and the state asthma programs to make more informed decisions about activities to achieve objectives.

• Facilitate communication about interventions across states, and enable inquiries regarding interventions by populations with a disproportionate burden, age groups, geographic areas and other variables of interest.

• Provide feedback to the grantees about their performance relative to others through the distribution of two written reports and several presentations (webinar and in-person) summarizing the results.

• Customize and provide technical assistance and support materials to address implementation challenges.

There will be no cost to respondents other than their time to complete the three AIRS spreadsheets annually. The estimated annualized burden hours are 89.

Estimated Annualized Burden Hours
Type of respondents | Form name | Number of respondents | Number of responses per respondent | Average burden per response (in hours)
State Asthma Program Awardees | AIRS Performance Measures Reporting Spreadsheets | 25 | 1 | 150/60
| AIRS Emergency Department Visits Reporting Form | 25 | 1 | 30/60
| AIRS Hospital Discharge Reporting Forms | 25 | 1 | 30/60

Jeffrey M. Zirger,
Lead, Information Collection Review Office, Office of Scientific Integrity, Office of Science, Centers for Disease Control and Prevention.

[FR Doc. 2019-06304 Filed 4-1-19; 8:45 am]

BILLING CODE 4163-18-P